SMALL BUSINESS ADMINISTRATION

[Disaster Declaration # 12077 and # 12078]

South Dakota Disaster Number SD-00027

AGENCY: Small Business Administration.

ACTION: Amendment 1.

SUMMARY: This is an amendment of the Presidential declaration of a major disaster for Public Assistance Only for the State of South Dakota (FEMA-1886-DR), dated 03/09/2010.

Incident: Severe Winter Storm and Snowstorm.

Incident Period: 12/23/2009 through 12/27/2009.

DATES: Effective Date: 04/06/2010.

Physical Loan Application Deadline Date: 05/10/2010.

Economic Injury (EIDL) Loan Application Deadline Date: 12/09/2010.

ADDRESSES: Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of South Dakota, dated 03/09/2010, is hereby amended to include the following areas as adversely affected by the disaster.

Primary Counties: Brule.

All other information in the original declaration remains unchanged.

(Catalog of Federal Domestic Assistance Numbers 59002 and 59008)

James E. Rivera,
Associate Administrator for Disaster Assistance.

[FR Doc. 2010-8528 Filed 4-13-10; 8:45 am]

BILLING CODE 8025-01-P